DEPARTMENT OF ENERGY

Federal Energy Regulatory Commission

[Docket No. RP02-361-005]

Gulfstream Natural Gas System, L.L.C.; Notice of Compliance Filing

January 15, 2003.

Take notice that on January 10, 2003, Gulfstream Natural Gas System, L.L.C. (Gulfstream) tendered for filing as part of its FERC Gas Tariff, Original Volume No. 1, the following tariff sheets, to be effective June 1, 2002.

Third Revised Sheet No. 8

First Revised Sheet No. 8B

Original Sheet No. 26

Sheet Nos. 27-29

Gulfstream states that the purpose of this filing is to comply with the Order on Rehearing and Compliance Filings issued by the Commission on December 26, 2002 in Docket Nos. RP02-361-001, et al. (December 26 Order). Gulfstream states that its Second Revised Sheet No. 8 and Original Sheet No. 8B contain a footnote which states that the negotiated rate agreements do not deviate in any material respect from the Form of Service Agreement contained in Gulfstream's Tariff.

Gulfstream also states that the December 26 Order required Gulfstream to identify in the footnotes on these tariff sheets certain of the negotiated rate agreements which are nonconforming service agreements. Gulfstream states that Third Revised Sheet No. 8 and First Revised Sheet No. 8B filed herewith both incorporate the revisions to the footnotes as required by the December 26 Order. In addition, the December 26 Order required Gulfstream to add a provision to its tariff that would provide for a meeting between Gulfstream and its customers once every two years to discuss operational issues, and Gulfstream states that it has provided for this on Original Sheet No. 26.

Gulfstream states that copies of its filing have been mailed to all affected customers, interested state commissions, and all parties listed on the Official Service List compiled by the Secretary of the Commission in this proceeding.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 23, 2003.

Magalie R. Salas,
Secretary.

[FR Doc. 03-1731 Filed 1-24-03; 8:45 am]

BILLING CODE 6717-01-P